DEPARTMENT OF AGRICULTURE

Agricultural Marketing Service

[Docket No. AMS-PY-07-0021]

Notice of Request for an Extension of a Currently Approved Information Collection

AGENCY: Agricultural Marketing Service, USDA.

ACTION: Notice and request for comments.

SUMMARY: In accordance with the Paperwork Reduction Act of 1995 (44 U.S.C. Chapter 35), this notice announces the intention of the Agricultural Marketing Service (AMS) to request an extension of a currently approved information collection in support of customer-focused improvement initiatives for USDA-procured poultry, livestock, fruit, and vegetable products.

DATES: Comments on this notice must be received by May 29, 2007.

ADDITIONAL INFORMATION: Interested persons are invited to submit written comments on the internet at http://www.regulations.gov or to David Bowden, Jr., Chief, Standardization Branch, Poultry Programs, Agricultural Marketing Service, U.S. Department of Agriculture, 1400 Independence Avenue, SW., Stop 0259, Washington, DC 20250-0259, (202) 690-3148. Comments should reference the docket number and the date and page number of this issue of the Federal Register and will be available for public inspection in the Office of the Docket Clerk during regular business hours, or can be viewed at: http://www.regulations.gov.

SUPPLEMENTARY INFORMATION: Title: Customer Service Survey for USDA-Donated Food Products.

OMB Number: 0581-0182.

Expiration Date, as approved by OMB: 10/31/2007.

Type of Request: Extension of a currently approved information collection.

Abstract: Starting with a 1996 pilot project by AMS, customers have been able to use the Customer Opinion Postcard, Form AMS-11, a 4-by 6-inch postcard, to voluntarily submit their perceptions of poultry, livestock, fruit, and vegetable products procured by USDA for school lunch program (42 U.S.C. 1751 et seq.) and other domestic food assistance programs. These cards have proven to be a quick and inexpensive way for AMS to learn customer perception of USDA commodities thereby helping the Agency make improvements to its products. AMS would like to continue the use of the customer opinion postcards to get voluntary customer feedback on various products each year by reapproval of the Customer Opinion Postcard, Form AMS-11. In this way AMS will be better able to meet the quality expectations of school food service personnel and the 26 million school children who consume these products daily.

Information about customers' perceptions of USDA-procured products is sought as a sound management practice to support AMS activities under 7 CFR part 250, regulations for “Donation of Foods for Use in the United States, Its Territories and Possessions and Areas Under Its Jurisdiction.” The information collected will be used primarily by authorized representatives of USDA (AMS, and the Food and Nutrition Service) and shared with State government agencies and product suppliers. To enable customers to mail cards directly to the commodity program that is soliciting the information, several versions of Form AMS-11 will be used, each with a different return address. Response information about products produced by a particular supplier may be shared with that supplier. Similarly, response information from customers located in a particular State may be shared with government agencies within that State.

AMS is committed to complying with the E-Government Act, which requires Government agencies in general to provide the public the option of submitting information or transacting business electronically to the maximum extent possible.

Estimate of Burden: Public reporting burden for this collection of information is estimated to average 0.083 hours (5 minutes) per response.

Respondents: State, local, and tribal governments, and not-for-profit businesses.

Estimated Number of Respondents: 8,400.

Estimated Number of Responses per Respondent: 1.

Estimated Total Annual Burden on Respondents: 700 hours.

Copies of this information collection can be obtained from David Bowden, Jr., Chief, Standardization Branch, at (202) 690-3148.

Send comments regarding, but not limited to, the following: (a) Whether the collection of information is necessary for the proper performance of the functions of the agency, including whether the information will have practical utility; (b) the accuracy of the agency's estimate of burden, including the validity of the methodology and assumptions used; (c) ways to enhance the quality, utility, and clarity of the information to be collected; and (d) ways to minimize the burden of the collection of information on those who are to respond, including through the use of appropriate automated, electronic, mechanical, or other technological collection techniques or other forms of information technology.

All responses to this notice will be summarized and included in the request for OMB approval. All comments will also become a matter of public record.

Dated: March 23, 2007.
Kenneth C. Clayton,
Acting Administrator Agricultural Marketing Service.

[FR Doc. E7-5793 Filed 3-28-07; 8:45 am]

BILLING CODE 3410-02-P